DEPARTMENT OF COMMERCE

National Oceanic and Atmospheric Administration

RIN 0648-XV92

Marine Mammals; File No. 14610

AGENCY: National Marine Fisheries Service (NMFS), National Oceanic and Atmospheric Administration (NOAA), Commerce.

ACTION: Notice; receipt of application.

SUMMARY: Notice is hereby given that the Alaska Department of Fish and Game (ADFG), Division of Wildlife Conservation, Juneau, AK (Principal Investigator: Robert Small, Ph.D.), has applied in due form for a permit to conduct research on marine mammals.

DATES: Written, telefaxed, or e-mail comments must be received on or before May 20, 2009.

ADDRESSES: The application and related documents are available for review by selecting “Records Open for Public Comment” from the Features box on the Applications and Permits for Protected Species (APPS) home page, https://apps.nmfs.noaa.gov, and then selecting File No. 14610 from the list of available applications.

These documents are also available upon written request or by appointment in the following office(s):

Permits, Conservation and Education Division, Office of Protected Resources, NMFS, 1315 East-West Highway, Room 13705, Silver Spring, MD 20910; phone (301) 713-2289; fax (301) 713-0376; and

Alaska Region, NMFS, P.O. Box 21668, Juneau, AK 99802-1668; phone (907) 586-7221; fax (907) 586-7249.

Written comments on this application should be submitted to the Chief, Permits, Conservation and Education Division, at the address listed above. Comments may also be submitted by facsimile to (301)713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Tammy Adams or Carrie Hubard, (301) 713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The ADFG requests a five-year permit to conduct studies on cetaceans in waters of the Bering, Chukchi, and Beaufort Seas in Alaska to determine population abundance, stock structure, feeding areas and other important habitats, migration routes, behavior relative to human disturbance, and to genetically identify individuals to determine survival and calving intervals. The target species are beluga whale (Delphinapterus leucas), endangered bowhead whale (Balaena mysticetus), gray whale (Eschrictius robustus), and endangered humpback whale (Megaptera novaeangliae). Research activities for beluga whales include aerial survey (up to 1,000 animals per each of four stocks annually), capture for tagging and sample collection (up to 35 animals per each of four stocks annually), and remote biopsy (up to 350 animals per each of four stocks annually). Research activities for bowhead whales include tagging (105 animals annually) and remote biopsy (up to 50 animals annually). Research activities for gray whales include tagging (up to 50 animals annually) and biopsy (up to 50 animals annually). Research activities for humpback whales include tagging (up to 20 animals annually) and remote biopsy (up to 20 animals annually). Up to 10 each of harbor seals (Phoca vitulina), bearded seals (Erignathus barbatus), ringed seals (P. hispida), and spotted seals (P. largha) would be harassed annually incidental to the cetacean research. Tissue samples collected from whales would be imported and exported to collaborators for genetic, health, and dietary studies.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: April 14, 2010.
P. Michael Payne,
Chief, Permits, Conservation and Education Division, Office of Protected Resources, National Marine Fisheries Service.

[FR Doc. 2010-8971 Filed 4-19-10; 8:45 am]

BILLING CODE 3510-22-S